COMMISSION ON CIVIL RIGHTS

Agenda and Notice of Public Meeting of the Vermont Advisory Committee

Notice is hereby given, pursuant to the provisions of the rules and regulations of the U.S. Commission on Civil Rights, that a town hall meeting of the Vermont Advisory Committee to the Commission will convene at 3:00 p.m. and adjourn at 6:00 p.m. on Friday, February 14, 2003, at the six Vermont Interactive Television sites located in (1) Colchester (76 King Street, Colchester, Vermont 05446), (2) Brattleboro (185 Main Street, P.O. Box 6308, Brattleboro, Vermont 05302), (3) Newport (North Country Union High School, Veterans Avenue, Newport, Vermont, 05061), (4) Randolph Center, Vermont Technical College, Randolph Center, Vermont 05061), (5) Rutland (Stafford Technical Center College 8 Stratton Road, Rutland, Vermont), and (6) St. Albans (North Building, Bellows Free Academy, P.O. Box 1578, St. Albans, Vermont 05478). The Advisory Committee will hold a town meeting with public agency officials, educators, and community leaders to discuss efforts to address racism and harassment of minorities in Vermont public schools and communities.

Persons desiring additional information, or planning a presentation to the Committee, should contact Marc Pentino of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, January 13, 2003.
Ivy L. Davis,
Chief, Regional Programs Coordination Unit.

[FR Doc. 03-1338 Filed 1-21-03; 8:45 am]

BILLING CODE 6335-01-P